LEGAL SERVICES CORPORATION

Sunshine Act Meeting of the Board of Directors Operations and Regulations Committee

Time and Date: The Operations and Regulations Committee of the Legal Services Corporation Board of Directors will meet September 11, 2004. The meeting will begin at 9 a.m., and continue until completion of the Committee's agenda.

Location: The Best Western, 835 Great Northern Boulevard, Helena, Montana.

Status of Meeting: Open.

Matters To Be Considered:

Open Session

1. Approval of agenda;

2. Approval of the Committee's meeting minutes of June 4, 2004;

3. Consider and act on retainer agreement and group representation issues relating to LSC open rulemaking on financial eligibility, 45 CFR part 1611; a. Staff report; and b. Public comment;

4. Consider and act on Mr. Dean Andal's petition for rulemaking to amend LSC regulations on Class Actions, 45 CFR Part 1617; a. Staff report; and b. Public comment;

5. Consider and act on management's clarification of LSC Grant Assurance 24 that LSC requires of its grantees; a. Staff report; and b. Public comment;

6. Other public comment;

7. Consider and act on other business;

8. Consider and act on adjournment of meeting;

9. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: September 1, 2004.
Victor M. Fortuno,
Vice President for Legal Affairs, General Counsel & Corporate Secretary.

[FR Doc. 04-20268 Filed 9-1-04; 3:12 pm]

BILLING CODE 7050-01-P